Proclamation 8506 of April 28, 2010

Older Americans Month, 2010

By the President of the United States of America

A Proclamation

Older Americans have lived through momentous and trying times in our history, and they have strengthened our national character. Their experience and wisdom connect us to the past and help us meet the challenges of the present. During Older Americans Month, we show our support and appreciation for these treasured individuals who have contributed so much to our Nation.

This year’s theme for Older Americans Month, “Age Strong, Live Long,” recognizes the efforts of people of all ages to promote the well-being, community involvement, and independence of senior citizens. As Americans live longer, healthier, and more productive lives, many are starting second careers and continuing to be involved in their communities. Dedicated older Americans are also answering the call to serve through the Corporation for National and Community Service’s Senior Corps.

My Administration is committed to ensuring older Americans can age strong and live long. By strengthening Medicare and Medicaid, while protecting Social Security, we help ensure all Americans can age with dignity. The recently enacted Affordable Care Act strengthens Medicare by providing free preventive care starting next year, enhancing care coordination, and gradually closing the “donut hole” gap in prescription drug coverage. In addition, this law includes provisions to help prevent and eliminate elder abuse, neglect, and exploitation. Along with the Middle Class Task Force’s Caregiver Initiative, we are investing in wellness and prevention programs to help seniors remain healthy and close to their loved ones. The Administration on Aging’s network of State and local organizations provides services to older Americans that help prevent unnecessary hospitalization or institutionalization. We must also protect seniors by expanding efforts to fight fraud, waste, and abuse in Medicare and Medicaid through national and State efforts, as well as community-based programs that empower retirees to detect and defend against health care fraud.

Many of our Nation’s older men and women have worked tirelessly and sacrificed so their children could achieve something greater. Their passion and experience inspire us all and we are privileged to honor and care for the generations whose legacy continues to enrich our Nation and shape our future.

NOW, THEREFORE, I, BARACK OBAMA, President of the United States of America, by virtue of the authority vested in me by the Constitution and the laws of the United States, do hereby proclaim May 2010 as Older Americans Month. I call upon citizens of all ages to honor older Americans this month with appropriate ceremonies and activities.

IN WITNESS WHEREOF, I have hereunto set my hand this twenty-eighth day of April, in the year of our Lord two thousand ten, and of the Independence of the United States of America the two hundred and thirty-fourth.

[FR Doc. 2010-10573

Filed 5-3-10; 8:45 am]

Billing code 3195-W0-P